GENERAL SERVICES ADMINISTRATION

[Notice-PBS-2023-07; Docket No. 2023-0002; Sequence No. 27]

Revised Draft Environmental Impact Statement and Draft Finding of No Practicable Alternative for the Expansion and Modernization of the Raul Hector Castro Land Port of Entry and Proposed Commercial Land Port of Entry in Douglas, Arizona

AGENCY: Public Buildings Service (PBS), General Services Administration (GSA).

ACTION: Notice of availability, Finding of No Practicable Alternative (FONPA).

SUMMARY: This notice announces the availability of the revised Draft Environmental Impact Statement (DEIS), which examines the potential environmental impacts from the expansion and modernization of the Raul Hector Castro (RHC) Land Port of Entry (LPOE) in Douglas, Arizona and construction of a new Commercial LPOE to address various operational, capacity, and safety issues associated with the existing facility. Following issuance of the original DEIS in January 2023, GSA identified a third action alternative—Alternative 3—through internal scoping. Due to the change in the analysis, GSA is re-issuing a revised DEIS for public review during a 45-day comment period. The DEIS describes the purpose and need for the project; alternatives considered; the existing environment that could be affected; the potential impacts resulting from each of the alternatives; and proposed best management practices and/or mitigation measures. The revised DEIS also includes the revised Draft Finding of No Practicable Alternative (FONPA), which provides a floodplain assessment and statement of findings as a result of construction in a floodplain at the RHC LPOE.

DATES:

Public Comment Period—The Public Comment Period begins with publication of this NOA in the Federal Register and will last for 45 days until Monday, October 23, 2023. After the comment period, GSA will prepare the Final EIS.

Meeting Date—A public meeting will be held on Wednesday, September 27, 2023, from 4:00 p.m. to 6:00 p.m., Mountain Time. The meeting will be held in the Douglas Visitor Center, where interested parties are invited to join and provide verbal or written comments on the revised DEIS and Draft FONPA.

ADDRESSES:

Meeting Location—A public meeting will be held at the Douglas Visitor Center, 345 16th St., Douglas, AZ 85607.

Public Comments—In addition to verbal and written comments provided at the public meeting, members of the public may also submit comments by one of the following methods:

• Email: Osmahn.Kadri@gsa.gov. Please include `RHC LPOE EIS' in the subject line of the message.

• Mail: ATTN: Osmahn Kadri, RHC LPOE EIS; U.S. General Services Administration, c/o Potomac-Hudson Engineering, Inc., 77 Upper Rock Circle, Suite 302, Rockville, MD 20850.

FOR FURTHER INFORMATION CONTACT: Osmahn Kadri, NEPA Program Manager, GSA at 415-522-3617 or Osmahn.Kadri@gsa.gov. Please also call the number if special assistance is needed to attend and participate in the public meeting.

SUPPLEMENTARY INFORMATION:

Public Comment Period

The views and comments of the public are necessary in helping GSA in its decision-making process with impacts to environmental, cultural, and economic impacts. The meeting will be an informal open house, where visitors may speak with GSA representatives and provide written comments. No formal presentation will be provided. All comments received will be considered equally and will become part of the public record. Further information on the project, including an electronic copy of the revised DEIS, may also be found online at the following websites: https://www.gsa.gov/about-us/regions/welcome-to-the-pacific-rim-region-9/land-ports-of-entry/douglas-commercial-land-port-of-entry and https://www.gsa.gov/about-us/regions/welcome-to-the-pacific-rim-region-9/land-ports-of-entry/raul-hector-castro-land-port-of-entry.

Serene Wetzel,
Director (Acting), Portfolio Management Division, Pacific Rim Region, Public Buildings Service.

[FR Doc. 2023-19611 Filed 9-11-23; 8:45 am]

BILLING CODE 6820-YF-P